DEPARTMENT OF TRANSPORTATION

Federal Aviation Administration

14 CFR Part 39

[Docket No. FAA-2021-0683; Project Identifier MCAI-2020-00614-R; Amendment 39-21696; AD 2021-17-13]

RIN 2120-AA64

Airworthiness Directives; PZL Swidnik S.A. Helicopters

AGENCY: Federal Aviation Administration (FAA), DOT.

ACTION: Final rule; request for comments.

SUMMARY: The FAA is adopting a new airworthiness directive (AD) for certain PZL Swidnik S.A. Model PZL W-3A helicopters. This AD was prompted by a report of a damaged wheel braking system pneumatic line fitting installed on the left-hand (LH) main landing gear (MLG) leg. This AD requires modifying the LH MLG leg. The FAA is issuing this AD to address the unsafe condition on these products.

DATES: This AD becomes effective September 7, 2021.

The FAA must receive comments on this AD by October 4, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact WSK “PZL-Świdnik” S.A., Al. Lotników Polskich 1, 21-045 Świdnik, Poland; telephone (+48) 81722 5716; fax (+48) 81722 5625; email: PL-CustomerSupport.AW@leonardocompany.com; or at https://www.pzlswidnik.pl/en/home. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0683; or in person at Docket Operations between 9 a.m. and 5 p.m., Monday through Friday, except Federal holidays. The AD docket contains this final rule, the European Aviation Safety Agency (now European Union Aviation Safety Agency) (EASA) AD, any comments received, and other information. The street address for Docket Operations is listed above.

FOR FURTHER INFORMATION CONTACT: Fred Guerin, Aerospace Engineer, General Aviation & Rotorcraft Section, International Validation Branch, FAA, 2200 S 216th St, Des Moines, WA 98198; telephone (202) 267-7457; email fred.guerin@faa.gov.

SUPPLEMENTARY INFORMATION:

Background

EASA, which is the Technical Agent for the Member States of the European Union, has issued EASA AD 2018-0274, dated December 13, 2018 (EASA AD 2018-0274), to correct an unsafe condition for Wytwórnia Sprzętu Komunikacyjnego (WSK) “PZL-Świdnik” Spółka Akcyjna (S.A.) Model PZL W-3A helicopters. EASA advises that damage was reported of the wheel braking system pneumatic line fitting installed on the LH MLG leg. Subsequent investigation determined that the wheel braking system pneumatic line fitting damage was caused by an impact of a load hoisted by the rescue hoist. This condition, if not addressed, could result in loss of MLG wheel braking capability, and subsequent loss of control of the helicopter during a roll-on landing.

Accordingly, EASA AD 2018-00274 requires, for helicopters equipped with a rescue hoist, modification of the LH MLG leg by installing shield assembly part number (P/N) 37.96.204.00.00. EASA AD 2018-0274 also specifies that for helicopters not equipped with a rescue hoist, installation of a rescue hoist is permitted provided that the helicopter is also modified by installing the shield assembly.

FAA's Determination

These products have been approved by the aviation authority of another country, and are approved for operation in the United States. Pursuant to the bilateral agreement with the State of Design Authority, the FAA has been notified of the unsafe condition described in EASA AD 2018-0274. The FAA is proposing this AD after evaluating all the relevant information and determining the unsafe condition described previously is likely to exist or develop in other products of the same type design.

Related Service Information

The FAA reviewed WYTWÓRNIA SPRZĘTU KOMUNIKACYJNEGO “PZL-Świdnik” Spółka Akcyjna Mandaroty Bulletin No. BO-37-18-301, dated December 10, 2018. This service information specifies procedures for installing shield assembly P/N 37.96.204.00.00 on the LH MLG leg on Model PZL W-3A helicopters with a rescue hoist installed.

AD Requirements

For helicopters with a rescue hoist installed, this AD requires modifying the LH MLG leg by installing shield assembly P/N 37.96.204.00.00. Additionally, this AD prohibits installing a rescue hoist unless shield assembly P/N 37.96.204.00.00 is also installed.

Difference Between This AD and the EASA AD

Whereas EASA AD 2018-0274 applies to all PZL W-3A helicopters, this AD applies to PZL W-3A helicopters with a rescue hoist installed.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are no helicopters with this type certificate on the U.S. Registry. Accordingly, notice and opportunity for prior public comment are unnecessary, pursuant to 5 U.S.C. 553(b)(3)(B). In addition, for the foregoing reason, the FAA finds that good cause exists pursuant to 5 U.S.C. 553(d) for making this amendment effective in less than 30 days.

Comments Invited

The FAA invites you to send any written data, views, or arguments about this final rule. Send your comments to an address listed under ADDRESSES. Include “Docket No. FAA-2021-0683; Project Identifier MCAI-2020-00614-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Guerin, Aerospace Engineer, General Aviation & Rotorcraft Section, International Validation Branch, FAA, 2200 S 216th St., Des Moines, WA 98198; telephone (202) 267-7457; email fred.guerin@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no helicopters with this type certificate on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-17-13 PZL Swidnik S.A.: Amendment 39-21696; Docket No. FAA-2021-0683; Project Identifier MCAI-2020-00614-R.

(a) Effective Date

This airworthiness directive (AD) is effective September 7, 2021.

(b) Affected ADs

None.

(c) Applicability

This AD applies to PZL Swidnik S.A. Model PZL W-3A helicopters, certificated in any category, with a rescue hoist installed.

(d) Subject

Joint Aircraft Service Component (JASC) Code: 3201, Landing Gear/Wheel Fairing.

(e) Unsafe Condition

This AD was prompted by a report of a damaged wheel braking system pneumatic line fitting installed on the left-hand (LH) main landing gear (MLG) leg. The FAA is issuing this AD to prevent damage to MLG pneumatic wheel braking system. The unsafe condition, if not addressed, could result in loss of MLG wheel braking capability, and subsequent loss of control of the helicopter during a roll-on landing.

(f) Compliance

Comply with this AD within the compliance times specified, unless already done.

(g) Required Actions

(1) Within 30 days after the effective date of this AD, modify the LH MLG leg by installing shield assembly part number (P/N) 37.96.204.00.00.

Note 1 to paragraph (g)(1): A sketch of the installation of shield P/N 37.96.204.01.00 and clamps P/N MS21920-35, which together constitute shield assembly P/N 37.96.204.00.00, is available in Attachment 1, of WYTWÓRNIA SPRZĘTU KOMUNIKACYJNEGO “PZL-Świdnik” Spółka Akcyjna Mandatory Bulletin No. BO-37-18-301, dated December 10, 2018.

(2) As of the effective date of this AD, do not install a rescue hoist unless the action required by paragraph (g)(1) of this AD has been accomplished concurrently with the rescue hoist installation or within 30 days after the effective date of this AD, whichever occurs later.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Fred Guerin, Aerospace Engineer, General Aviation & Rotorcraft Section, International Validation Branch, FAA, 2200 S 216th St., Des Moines, WA 98198; telephone (202) 267-7457; email 9-ANM-Seattle-ACO-AMOC-Requests@faa.gov.

(2) For service information identified in this AD, contact WSK “PZL-Świdnik” S.A., Al. Lotników Polskich 1, 21-045 Świdnik, Poland; telephone (+48) 81722 5716; fax (+48) 81722 5625; email: PL-CustomerSupport.AW@leonardocompany.com; or at https://www.pzlswidnik.pl/en/home. You may view this referenced service information at the FAA, Office of the Regional Counsel, Southwest Region, 10101 Hillwood Pkwy., Room 6N-321, Fort Worth, TX 76177. For information on the availability of this material at the FAA, call (817) 222-5110.

(3) The subject of this AD is addressed in European Aviation Safety Agency (now European Union Aviation Safety Agency) (EASA) AD 2018-0274, dated December 13, 2018. You may view the EASA AD at https://www.regulations.gov in Docket No. FAA-2021-0683.

Issued on August 12, 2021.
Lance T. Gant,
Director, Compliance & Airworthiness Division, Aircraft Certification Service.

[FR Doc. 2021-17838 Filed 8-19-21; 8:45 am]

BILLING CODE 4910-13-P